INTERNATIONAL TRADE COMMISSION

[USITC SE-09-033]

Government in the Sunshine Act Meeting Notice

Agency Holding the Meeting: United States International Trade Commission.

Time and Date: November 19, 2009 at 9:30 a.m.

Place: Room 101, 500 E Street SW., Washington, DC 20436, Telephone: (202) 205-2000.

Status: Open to the public.

Matters to be Considered: 1. Agenda for future meetings: None.

2. Minutes.

3. Ratification List.

4. Inv. No. 731-TA-1046 (Review) (Tetrahydrofurfuryl Alcohol from China)—briefing and vote. (The Commission is currently scheduled to transmit its determination and Commissioners' opinions to the Secretary of Commerce on or before November 30, 2009.)

5. Outstanding action jackets:

(1) Document No. GC-09-241: Concerning Inv. No. 337-TA-640 (Certain Short-Wavelength Light Emitting Diodes, Laser Diodes, and Products Containing Same).

In accordance with Commission policy, subject matter listed above, not disposed of at the scheduled meeting, may be carried over to the agenda of the following meeting.

Issued: November 3, 2009.
By order of the Commission.
William R. Bishop,
Hearings and Meetings Coordinator.

[FR Doc. E9-26869 Filed 11-4-09; 11:15 am]

BILLING CODE 7020-02-P